DEPARTMENT OF COMMERCE

Foreign-Trade Zones Board

Docket 47-2008

Foreign-Trade Zone 189 Kent/Ottawa/Muskegon Counties, Michigan, Application for Subzone, Wolverine World Wide, Inc. (Footwear and Apparel Distribution)

An application has been submitted to the Foreign-Trade Zones Board (the Board) by the Kent-Ottawa-Muskegon Foreign Trade Zone Authority, grantee of FTZ 189, requesting special-purpose subzone status for the footwear and apparel distribution facilities of Wolverine World Wide, Inc. (Wolverine), located in Rockford, Cedar Springs and Howard City, Michigan. The application was submitted pursuant to the provisions of the Foreign-Trade Zones Act, as amended (19 U.S.C. 81a-81u), and the regulations of the Board (15 CFR part 400). It was formally filed on August 25, 2008.

The proposed subzone would include Wolverine's facilities at 3 sites located within the Grand Rapids, Michigan port of entry area: Site 1 (265 acres) - 9341 Courtland Drive, in Rockford; Site 2 (19 acres) - 660 West Street S NE, in Cedar Springs; and, Site 3 (26 acres) - 214 East Washburn Street, in Howard City. Site 1 is owned by Wolverine while sites 2 and 3 are leased. The facilities are used for warehousing and distribution of both foreign-origin and domestic footwear, apparel and gear for both the U.S. market and export. The application states that all textile and apparel products classified under Textile Import Quota categories would be admitted to the proposed subzone under domestic (duty-paid) status (19 CFR Sec. 146.41). FTZ procedures would be used to help support Wolverine's Michigan-based import and distribution activity.

FTZ procedures would exempt Wolverine from Customs duty payments on foreign products that are re-exported. On domestic sales, duty payments would be deferred until the foreign merchandise is shipped from the facilities and entered for consumption. The company would also realize significant logistical benefits related to the use of direct delivery and weekly customs entry procedures. The application indicates that the savings from the use of FTZ procedures would help improve the company's international competitiveness and help facilitate the company's plans to grow their export market.

In accordance with the Board's regulations, Christopher Kemp of the FTZ staff is designated examiner to investigate the application and report to the Board.

Public comment is invited from interested parties. Submissions (original and 3 copies) shall be addressed to the Board's Executive Secretary at the address below. The closing period for their receipt is November 3, 2008. Rebuttal comments in response to material submitted during the foregoing period may be submitted during the subsequent 15-day period (to November 17, 2008).

A copy of the application and accompanying exhibits will be available at each of the following addresses: U.S. Department of Commerce Export Assistance Center, 401 West Fulton Street, Suite 349C, Grand Rapids, MI 49504; and, Office of the Executive Secretary, Foreign-Trade Zones Board, Room 2111, U.S. Department of Commerce, 1401 Constitution Ave, NW, Washington, D.C. 20230. For further information contact Christopher Kemp at christopher_kemp@ita.doc.gov or (202) 482-0862.

Dated: August 25, 2008.
Andrew McGilvray,
Executive Secretary.

[FR Doc. E8-20413 Filed 9-2-08; 8:45 am]

Billing Code: 3510-DS-S